DEPARTMENT OF ENERGY

Office of Civilian Radioactive Waste Management; Yucca Mountain Science and Engineering Report; Site Recommendation Consideration and Request for Comment

AGENCY: Office of Civilian Radioactive Waste Management, Department of Energy.

ACTION: Notice of availability of report and initiation of public comment period.

SUMMARY: The Department of Energy (the Department or DOE) announces the initiation of a public comment period on the possible recommendation of the Yucca Mountain Site in Nevada by the Secretary of Energy to the President for development as a spent nuclear fuel and high-level nuclear waste geologic repository. To facilitate the public review and comment process, the Department announces today the availability of the Yucca Mountain Science and Engineering Report (YMS&ER). This report provides the public with a summary of the information and data collected to date by the Department in its multi-year study and characterization of the Yucca Mountain site as a potential spent nuclear fuel and high-level waste repository. A decision to recommend the site has not been made; the YMS&ER is being issued to describe the results of site characterization studies completed to date, the waste forms to be disposed, a repository and waste package design, and updated assessments of the long term performance of the potential repository. The Department intends for the YMS&ER, and its supporting documents, to be used by the public as an aid in providing comments on the technical information and data underlying the Department's consideration of a possible recommendation of the site. This summer, after the release of additional information, DOE will announce the dates, locations and times for public hearings on the possible recommendation and the date for the end of the public comment period. In addition, in recognition of the fact that technical and scientific analyses are continuing, and that the pertinent regulatory framework is not currently in final form, the issuance of additional information, beyond that anticipated for release this summer, may be warranted. By making the large amount of information developed by the Department on the Yucca Mountain site available in stages, the Department intends to provide the public and interested parties with ample time to review all the available materials and formulate their comments regarding a possible site recommendation by the Secretary.

DATES: The public may submit written comments at this time. DOE will issue additional information this summer and will at that point announce the dates, locations and times of public hearings on the Secretary's consideration of a potential site recommendation.

ADDRESSES: Written comments should be addressed to Carol Hanlon, U.S. Department of Energy, Yucca Mountain Site Characterization Office, (M/S #025), P.O. Box 30307, North Las Vegas, Nevada 89036-0307, or provided by electronic mail to YMP_SR@ymp.gov. Written comments should be identified on the outside of the envelope, and on the comments themselves, with the designation: “Possible Site Recommendation for Yucca Mountain.” Comments can also be submitted by facsimile to 1-800-967-0739. Copies of any written comments, and documents referenced in this notice may be inspected and photocopied in the DOE Freedom of Information Act Reading Room located at the Yucca Mountain Science Center, 4101B Meadows Lane, Las Vegas, Nevada, (702) 295-1312, between the hours of 8 a.m. and 5 p.m., Monday through Friday, except for Federal holidays. Documents referenced in this notice may also be found on the Internet at http://www.ymp.gov and at http://www.rw.doe.gov (YMS&ER only). For more information concerning public participation, please refer to the Opportunity for Public Comment section of this notice.

Copies of the YMS&ER may be requested by telephone (1-800-967-3477) or over the Internet via the Yucca Mountain Project website using the document ordering form at http://www.ymp.gov under the listing “Yucca Mountain Science and Engineering Report.”

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION:

I. Introduction

A. Yucca Mountain Site Characterization

In 1982, Congress passed the Nuclear Waste Policy Act (NWPA) (Public Law 97-425), designating the federal government as the responsible entity for the safe and permanent disposal of spent nuclear fuel and high-level radioactive waste. Also in the NWPA, Congress established a comprehensive framework for the siting, construction and operation of a geologic repository as the primary mechanism by which the federal government would ensure the safe and permanent disposal of such radioactive material. In 1987, Congress amended the NWPA. In the Nuclear Waste Policy Amendments Act of 1987 (Public Law No. 100-203), Congress directed the Department to characterize only the Yucca Mountain, Nevada site for a possible geologic repository.

The Department has studied Yucca Mountain for over 20 years. Over the course of those years, the Department has performed detailed scientific investigations of the geology, hydrology, geochemistry, and other characteristics of the site to determine whether it is a suitable place to build a geologic repository. The DOE has also developed a preliminary design for a potential repository and for the waste packages in which spent nuclear fuel and high-level radioactive waste might be stored. The results of these scientific investigations and the preliminary design efforts have been analyzed to assess the possible future performance of the potential repository in the geologic setting of the site. The YMS&ER provides a summary of these studies and design efforts to date.

B. Site Recommendation Process

Under Section 114 (a)(1) of the NWPA, as amended, the Secretary's decision whether to recommend the site will be made following the completion of public hearings and completion of site characterization activities under section 113 of the NWPA, as amended.

The following steps describe the process for the Secretary's determination whether to recommend the site to the President; for the President's decision whether to approve the site; and for the role of the state of Nevada and Congress in the approval or denial of any recommendation by the President. Also summarized are the steps necessary for the DOE to prepare a license application to the Nuclear Regulatory Commission (NRC) and for the NRC to grant an authorization to begin construction, if the site is approved.

Step 1. The NWPA, as amended, requires the Secretary to hold public hearings in the vicinity of the Yucca Mountain site. The hearings will provide the DOE with an opportunity to inform residents of the area that the site is being considered for possible recommendation for development of a repository and receive their comments. The YMS&ER, issued this date, provides a summary of scientific and technical information relevant to the site recommendation process. This summer, DOE will be issuing additional information that the Secretary will use in his consideration of a possible recommendation for the Yucca Mountain site. This information will include the results of ongoing sensitivity studies and uncertainty study analyses (Supplemental Science and Performance Analyses), as well as the results of a preliminary evaluation of the Yucca Mountain site's preclosure and postclosure performance against the Department's proposed site suitability guidelines (Preliminary Site Suitability Evaluation). That preliminary evaluation will consider any newly available information in addition to the information provided in the YMS&ER. Although there is no statutory requirement for development or issuance of these documents, the DOE is providing the documents to facilitate public comments before and during the public hearings.

Step 2. Comments received during the public comment period will be considered by the Secretary before a decision is made whether to recommend the site to the President. After considering the comments received, if the Secretary decides to recommend the site, the NWPA requires the Secretary to notify the governor and legislature of the state of Nevada and wait at least 30 days before submitting the recommendation to the President. If the Secretary decides not to recommend the site, appropriate notification will be made to the Congress and the State of Nevada.

Step 3. If the Secretary decides to recommend approval of the site and 30 days has elapsed since notification of the State of Nevada, the Secretary would then provide the recommendation to the President along with the basis for the recommendation, as required under section 114(a)(1) of the NWPA. That basis for recommendation would include, among other items, comments received on the YMS&ER and subsequent documents; the views and comments submitted by the governor and legislature of any state, along with the Secretary's response to such views; the preliminary comments of the NRC concerning the extent to which the at-depth site characterization analysis and the waste form proposal seem to be sufficient for inclusion in any subsequent license application; and a final Environmental Impact Statement (EIS) for the Yucca Mountain site. (The Department is in the process of preparing this EIS. For more information on the status of that process see a separate Federal Register Notice of May 4, 2001.) Upon submission to the President, the Secretary's recommendation and basis for the recommendation would be available to the public.

Step 4. If, after receiving a recommendation by the Secretary and the basis for the recommendation, the President considers the Yucca Mountain site qualified for application for a construction authorization for a repository, the President may approve the site for the development of a repository and recommend the site to Congress. The President's recommendation to Congress would be accompanied by the Secretary's recommendation, and the basis for the recommendation.

Step 5. If the President submits a recommendation of the site to Congress, the state of Nevada will have 60 days to submit a notice of disapproval to Congress. If Nevada does not submit a notice, the Yucca Mountain site designation will become effective, 60 days after the President's recommendation is submitted to Congress. If the state of Nevada does submit a notice, the Yucca Mountain site designation would be disapproved unless, during the first 90 days of continuous session after the notice of disapproval is submitted, Congress passes a joint resolution of repository siting approval and the President signs it into law.

Step 6. If the site designation becomes effective, the Secretary will subsequently submit a license application to the NRC for authorization to construct a repository and provide a copy to the governor and legislature of Nevada. The NWPA requires the NRC to issue a final decision approving or disapproving the construction authorization within three years after receiving the application. However, the law provides that the NRC can extend the deadline by up to one year if it submits to the Secretary of Energy and Congress a written report explaining the reason for the NRC's failure to meet the three-year deadline.

C. Information for the Public Comment Process

As explained above, the Department is making available the YMS&ER in conjunction with the initiation of the site recommendation process. The report describes the results of site characterization, the waste forms to be disposed of, the preliminary design of the repository and the waste packages, and the results of assessments of potential repository performance. The information presented provides the Department's existing technical basis for public and stakeholder comments on the possible recommendation. The Department will continue to collect and refine its analysis and information base, in response to public comments and as part of its ongoing characterization activities, before reaching any decision on a possible site recommendation.

The information and analyses in the YMS&ER are also based on the status of regulations, as presently proposed, that would govern the public health and safety standard for a spent nuclear fuel and high-level waste repository at Yucca Mountain (EPA standards proposed for codification at 40 CFR part 197), the licensing requirements for such a repository (NRC requirements proposed for codification at 10 CFR part 63), and the suitability of the Yucca Mountain site for a repository (DOE guidelines proposed for codification at 10 CFR part 963). The Department expects that the subject regulations will be finalized in the near future. The currently proposed regulations provide a reasonable basis for the consideration of a possible site recommendation. In recognition of the fact that technical and scientific analyses are continuing, and that the pertinent regulatory framework is not currently in final form, the issuance of additional information or analyses, beyond that anticipated for release this summer, may be warranted.

The YMS&ER is available on the Internet, on compact disc, and in print.

The document contains information that would be included in the basis for any site recommendation from the Secretary to the President, as specified by Section 114(a)(1)(A), (B), and (C) of the NWPA. The organization of the YMS&ER is consistent with the order of information identified in Section 114 of the NWPA. Section 1 introduces the report and provides background information on the site recommendation approval process and a summary of the information in the succeeding sections of the report. Section 2 describes the design of the potential repository at Yucca Mountain, including preliminary engineering specifications for the facility. Section 3 describes the waste forms to be disposed and proposed waste package designs. Section 4 discusses the data related to the safety of the Yucca Mountain site, including a description of how the natural and engineered repository systems would work together to protect public health and limit the release of radionuclides to the environment. It explains the relationship between the waste form, the waste package, and the geologic medium at Yucca Mountain. It also describes analyses of the future long-term performance of a Yucca Mountain repository. Section 5 describes the analyses performed to evaluate the safety of the potential repository during operation and before final closure.

The YMS&ER references numerous supporting documents, which are available on the Internet (http://www.ymp.gov) or in print. The public is encouraged to review these documents, in addition to the YMS&ER, in developing comments on the possible site recommendation. The supporting documents incorporate an extensive foundation of scientific, engineering, and programmatic research that analyzed the Yucca Mountain site, the proposed repository and waste package designs, and other information. The supporting documents are hierarchically organized: at the top are comprehensive integrating documents that support this report directly, and an extensive set of technical reports that explain in more detail the basis for the analyses presented. Some of the major integrating documents are:

The Total System Performance Assessment—Site Recommendation.

The Preliminary Preclosure Safety Assessment for a Monitored Geologic

Repository.

The Draft Environmental Impact Statement for a Geologic Repository for the Disposal of Spent Nuclear Fuel and High-Level Radioactive Waste at Yucca Mountain, Nye County, Nevada.

The Yucca Mountain Site Description.

The Monitored Geologic Repository Project Description Document.

Key technical references include nine process model reports that describe how the natural and engineered systems at a potential repository are expected to behave. For example, these reports describe how water would move from the surface to the repository and how the waste package would perform over time. Reports summarizing hundreds of scientific and engineering studies on a wide variety of topics support the YMS&ER in more detail, including:

Analysis model reports describing the detailed scientific models of how the potential repository might behave in the future;

Scientific reports of the results of site characterization investigations, regional studies, and studies of natural analogues to a potential repository;

Descriptions of design requirements, design analyses, and design alternative studies for the repository surface and subsurface facilities, engineered barrier systems, and waste packages.

Concurrent with the release of the YMS&ER, DOE will also be issuing a Supplement to the Draft Environmental Impact Statement for a Geologic Repository for the Disposal of Spent Nuclear Fuel and High-Level Radioactive Waste at Yucca Mountain, Nye County, Nevada. The availability of that document was announced in a separate Federal Register Notice, dated May 4, 2001, together with information on the opportunities for public comment on the document and public hearings to be held.

II. Opportunity for Public Comment

A. Participation in Comment Process

Interested persons are invited to participate in the comment process by submitting written data, views, or comments with respect to the subject set forth in this notice. The Department encourages the maximum level of public participation possible in this process. Individuals, coalitions, states or other government entities, and others are urged to submit written comments on the possible recommendation of the Yucca Mountain site.

B. Written Comment Procedures

The DOE invites the public to comment on a possible site recommendation for the Yucca Mountain site. Written comments should be identified on the outside of the envelope, and on the comments themselves, with the designation: “Possible Site Recommendation for Yucca Mountain.” In the event any person wishing to submit written comments cannot provide them directly, alternative arrangements can be made by calling [(800) 967-3477]. All comments received and other relevant information will be considered by the DOE before a decision is made on the potential site recommendation. All comments submitted will be available for examination at the Yucca Mountain Science Center in Las Vegas, Nevada. Pursuant to the provisions of 10 CFR 1004.11, any person submitting information or data that is believed to be confidential, and which may be exempt by law from public disclosure, should submit one complete copy, as well as two copies from which the information considered confidential has been deleted. The Department of Energy will make its own determination of any such claim and treat it accordingly.

Issued in Washington, DC on April 27, 2001.
Lake Barrett,
Acting Director, Office of Civilian Radioactive Waste Management.

[FR Doc. 01-11383 Filed 5-4-01; 8:45 am]

BILLING CODE 6450-01-P